DEPARTMENT OF HEALTH AND HUMAN SERVICES

Agency for Healthcare Research and Quality

Correction—Solicitation for Nominations for Members of the U.S. Preventive Services Task Force (USPSTF)

The original date of publication for this Federal Register notice was March 28, 2012, Volume 77, Number 60, pages 18823-18825. On this publication, Gloria Washington's email address is incorrect in two places of page 18824 under subheadings ADDRESSES: and FOR FURTHER INFORMATION CONTACT:. The correct email address for Gloria Washington is: USPSTFmembernominations@AHRQ.HHS.GOV

Dated: April 4, 2012.
Carolyn M. Clancy,
Director.

[FR Doc. 2012-8737 Filed 4-12-12; 8:45 am]

BILLING CODE 4160-90-M